ENVIRONMENTAL PROTECTION AGENCY

[FRL-8171-7]

Availability of FY 05 Grantee Performance Evaluation Reports for the Eight States of EPA Region 4 and Selected Local Agencies

AGENCY: Environmental Protection Agency (EPA).

ACTION: Notice of availability of Clean Air Act, section 105 grantee performance evaluation reports.

SUMMARY: EPA's grant regulations (40 CFR 35.115) require the Agency to evaluate the performance of agencies which receive grants. EPA's regulations for regional consistency (40 CFR 56.7) require that the Agency notify the public of the availability of the reports of such evaluations. EPA performed end-of-year evaluations of eight state air pollution control programs (Alabama Department of Environmental Management; Florida Department of Environmental Protection; Georgia Department of Natural Resources; Kentucky Environmental & Public Protection Cabinet; Mississippi Department of Environmental Quality; North Carolina Department of Environment and Natural Resources; South Carolina Department of Health and Environmental Control; and Tennessee Department of Environment and Conservation) and 12 local programs (City of Huntsville Division of Natural Resources, AL; Jefferson County Department of Health, AL; City of Jacksonville Environmental Quality Division, FL; Hillsborough County Environmental Protection Commission, FL; Miami-Dade County Air Quality Management Division, FL; Palm Beach County Health Department Division of Environmental Health, FL; Forsyth County Environmental Affairs Department, NC; Mecklenburg County Land Use and Environmental Services Agency, NC; Western North Carolina Regional Air Quality Agency, NC; Memphis-Shelby County Health Department, TN; Knox County Department of Air Quality Management, TN; and Nashville-Davidson County Metropolitan Public Health Department, TN). The 20 evaluations were conducted to assess the agencies' performance under the grants awarded by EPA under authority of section 105 of the Clean Air Act. EPA Region 4 has prepared reports for each agency identified above and these reports are now available for public inspection. The evaluations for the remainder of the local governments will be published at a later date.

ADDRESSES: The reports may be examined at the EPA's Region 4 office, 61 Forsyth Street, SW., Atlanta, Georgia 30303, in the Air, Pesticides and Toxics Management Division.

FOR FURTHER INFORMATION CONTACT: Marie Persinger (404) 562-9048 for information concerning the state agencies of Alabama and South Carolina; Miya Smith (404) 562-9091 for the state and local agencies of Florida and for the local agencies of Tennessee; Russandra Brown (404) 562-9064 for the state agencies of Mississippi and Kentucky; Mary Echols (404) 562-9053 for the state agencies of Georgia and Tennessee, and for the state and local agencies of North Carolina. They may be contacted at the above Region 4 address.

Dated: May 4, 2006.
A. Stanley Meiburg,
Deputy Regional Administrator, Region 4.

3

[FR Doc. E6-7574 Filed 5-17-06; 8:45 am]

BILLING CODE 6560-50-P